FEDERAL MARITIME COMMISSION

Ocean Transportation Intermediary License Rescission of Order of Revocation

Notice is hereby given that the Order revoking the following license is being rescinded by the Federal Maritime Commission pursuant to section 19 of the Shipping Act of 1984 (46 U.S.C. Chapter 409) and the regulations of the Commission pertaining to the licensing of Ocean Transportation Intermediaries, 46 CFR Part 515.

License Number: 006313N.

Name: Puerto Rico Freight Systems, Inc.

Address: Edificio 11, Central Mercantil Zona Libre, Guanaybno, PR 00965.

Order Published: FR: 10/31/07 (Volume 72, No. 210 Pg. 61645).

Sandra L. Kusumoto,
Director, Bureau of Certification and Licensing.

[FR Doc. E7-22347 Filed 11-14-07; 8:45 am]

BILLING CODE 6730-01-P